DEPARTMENT OF ENERGY

Federal Energy Regulatory Commission

Combined Notice of Filings #1

September 25, 2006.

Take notice that the Commission received the following electric corporate filings:

Docket Numbers: EC06-161-000.

Applicants: Puget Sound Energy, Inc.

Description: Puget Sound Energy, Inc. submits its application for authorization for acquisition of an existing generation facility and acquisition by a holding company.

Filed Date: 09/11/2006.

Accession Number: 20060922-0104.

Comment Date: 5 p.m. Eastern Time on Monday, October 02, 2006.

Take notice that the Commission received the following electric rate filings:

Docket Numbers: ER96-1361-010; ER98-4138-006; ER99-2781-008; ER98-3096-012; ER01-202-005; ER00-1770-013; ER02-453-007; ER04-472-004; ER04-529-004.

Applicants: Atlantic City Electric Company; Potomac Electric Company; Delmarva Power & Light Company; Pepco Energy Services, Inc.; Potomac Power Resources, LLC; Connectiv Energy Supply, Inc.; Conectiv Atlantic Generation, LLC; Conectiv Delmarva Generation, Inc.; Conectiv Bethlehem, LLC; Fauquier Landfill Gas, LLC; Rolling Hills Landfill Gas, LLC.

Description: Atlantic City Electric Co. et al. submit a notification of change in status in compliance with the requirements of FERC's Order 652.

Filed Date: 09/21/2006.

Accession Number: 20060922-0059.

Comment Date: 5 p.m. Eastern Time on Thursday, October 12, 2006

Docket Numbers: ER03-500-001.

Applicants: Liberty Power Corp, LLC.

Description: Liberty Power Corp, LLC submits its updated market power analysis pursuant to the Commission's Order No. 652.

Filed Date: 09/21/2006.

Accession Number: 20060922-0058.

Comment Date: 5 p.m. Eastern Time on Thursday, October 12, 2006.

Docket Numbers: ER03-769-002.

Applicants: American PowerNet Management, LP.

Description: American PowerNet Management, LP submits its triennial market power analysis pursuant to the Commission's 6/20/03 letter order.

Filed Date: 09/20/2006.

Accession Number: 20060922-0054.

Comment Date: 5 p.m. Eastern Time on Wednesday, October 11, 2006.

Docket Numbers: ER03-771-001.

Applicants: Accent Energy New Jersey LLC.

Description: Accent Energy New Jersey LLC submits its updated market power analysis and new Original Sheet 2.

Filed Date: 09/20/2006.

Accession Number: 20060922-0056.

Comment Date: 5 p.m. Eastern Time on Wednesday, October 11, 2006.

Docket Numbers: ER06-257-002.

Applicants: Southwest Power Pool, Inc.

Description: Southwest Power Pool, Inc. submits a compliance filing providing revisions to the designation of Service Agreement 1154 an executed Network Integration Transmission Service Agreement with Associated Electric Coop, Inc.

Filed Date: 09/14/2006.

Accession Number: 20060922-0064.

Comment Date: 5 p.m. Eastern Time on Thursday, October 05, 2006.

Docket Numbers: ER06-432-003.

Applicants: Southwest Power Pool, Inc.

Description: Southwest Power Pool, Inc. submits its Substitute First Revised Sheet 58 et al. to FERC Electric Tariff, Fourth Revised Volume 1.

Filed Date: 09/21/2006.

Accession Number: 20060922-0060.

Comment Date: 5 p.m. Eastern Time on Thursday, October 12, 2006.

Docket Numbers: ER06-733-002.

Applicants: Midland Cogeneration Venture LP.

Description: Midland Cogeneration Venture Limited Partnership submits its notice of non-material change in status related to the sale of 43.5% of its ownership interest.

Filed Date: 09/21/2006.

Accession Number: 20060922-0062.

Comment Date: 5 p.m. Eastern Time on Thursday, October 12, 2006.

Docket Numbers: ER06-1208-001.

Applicants: Vermont Electric Power Company; Vermont Transco LLC

Description: Vermont Electric Power Co. & Vermont Transco, LLC jointly submits certain rate schedules that were transferred from VELCO to VT Transco effective 6/30/06.

Filed Date: 09/20/2006.

Accession Number: 20060922-0057.

Comment Date: 5 p.m. Eastern Time on Wednesday, October 11, 2006.

Docket Numbers: ER06-1419-001.

Applicants: MeadWestvaco Virginia Corporation.

Description: MeadWestvaco Virgina Corp. submits its First Amended Petition for Market-Based Rate Authority, Acceptance of Initial Rate Schedule, Waivers and Blanket Authority along with Rate Schedule FERC No.1.

Filed Date: 09/19/2006.

Accession Number: 20060920-0174.

Comment Date: 5 p.m. Eastern Time on Tuesday, October 10, 2006.

Docket Numbers: ER06-1443-001.

Applicants: FirstEnergy Service Company; Pennsylvania Power Company; Metropolitan Edison Company; Pennsylvania Electric Company; Cleveland Electric Illuminating Company; Ohio Edison Company; The Toledo Electric Company

Description: FirstEnergy Service Co. on behalf of Pennsylvania Power Co. et al. submit an Amendment to their 8/31/06 filing of an initial and amended market-based rate tariffs.

Filed Date: 09/20/2006.

Accession Number: 20060922-0055.

Comment Date: 5 p.m. Eastern Time on Wednesday, October 11, 2006.

Docket Numbers: ER06-1458-001.

Applicants: E.ON U.S., LLC.

Description: E On US, LLC on behalf of Louisville Gas and Electric Co. et al. submits a substitute unexecuted Service Agreement for Network Integration Transmission Service.

Filed Date: 09/21/2006.

Accession Number: 20060922-0061.

Comment Date: 5 p.m. Eastern Time on Thursday, October 12, 2006.

Docket Numbers: ER06-1495-000.

Applicants: American Electric Power Service Corporation.

Description: American Electric Power Service Corp. on behalf of AEP Texas North Company submits a fully executed generation interconnection agreement between TSP and Whirlwind Energy LLC.

Filed Date: 09/19/2006.

Accession Number: 20060920-0173.

Comment Date: 5 p.m. Eastern Time on Tuesday, October 10, 2006.

Docket Numbers: ER06-1496-000.

Applicants: Midwest Independent Transmission System Operator, Inc.

Description: Midwest Independent Transmission System Operator, Inc. submits its Transmission Interconnection Agreement with Interstate Power and Light Co. et al.

Filed Date: 09/19/2006.

Accession Number: 20060920-0239.

Comment Date: 5 p.m. Eastern Time on Tuesday, October 10, 2006.

Docket Numbers: ER06-1497-000.

Applicants: PJM Interconnection, LLC.

Description: PJM Interconnection, LLC submits revisions to its Amended and Restated Operating Agreement and the PJM Open Access Transmission Tariff.

Filed Date: 09/19/2006.

Accession Number: 20060920-0167.

Comment Date: 5 p.m. Eastern Time on Tuesday, October 10, 2006.

Docket Numbers: ER06-1498-000.

Applicants: American Transmission Company LLC.

Description: American Transmission Company LLC submits an executed Distribution-Transmission Interconnection Agreement with New London Utilities dated as of 8/31/06.

Filed Date: 09/19/2006.

Accession Number: 20060920-0108.

Comment Date: 5 p.m. Eastern Time on Tuesday, October 10, 2006.

Docket Numbers: ER06-1501-000.

Applicants: ISO New England Inc.; New England Power Pool Participants Committee.

Description: ISO New England Inc. and New England Power Pool submit several proposed changes to the ISO New England Information Policy.

Filed Date: 09/18/2006

Accession Number: 20060920-0168.

Comment Date: 5 p.m. Eastern Time on Tuesday, October 10, 2006.

Docket Numbers: ER06-1506-000.

Applicants: Entergy Services Inc.

Description: Entergy Services, Inc. on behalf of Entergy Arkansas, Inc. submits an executed Service Agreement providing for cost-based, short-term power sales to North Arkansas Electric Cooperative, Inc.

Filed Date: 09/20/2006.

Accession Number: 20060922-0053.

Comment Date: 5 p.m. Eastern Time on Wednesday, October 11, 2006.

Docket Numbers: ER06-1507-000.

Applicants: Wabash Valley Power Association, Inc.

Description: Wabash Valley Power Association, Inc. submits an Agreement for Electric Service implementing Industrial Load Rate Schedule 2 with Midwest Energy Cooperative and Jasper County REMC.

Filed Date: 09/20/2006.

Accession Number: 20060922-0052.

Comment Date: 5 p.m. Eastern Time on Wednesday, October 11, 2006.

Docket Numbers: ER06-1508-000.

Applicants: Southern California Edison Company.

Description: Southern California Edison Co. submits a Service Agreement for Wholesale Distribution Service with the City of Industry, CA.

Filed Date: 09/20/2006.

Accession Number: 20060922-0051.

Comment Date: 5 p.m. Eastern Time on Wednesday, October 11, 2006.

Docket Numbers: ER06-1509-000.

Applicants: Minergy Neenah, LLC.

Description: Minergy Neenah, LLC submits a Notice of Cancellation of FERC Rate Schedule 1, effective 9/19/06.

Filed Date: 09/19/2006.

Accession Number: 20060922-0050.

Comment Date: 5:00 pm Eastern Time on Tuesday, October 10, 2006.

Docket Numbers: ER06-1510-000.

Applicants: PJM Interconnection, LLC.

Description: PJM Interconnection, LLC submits an Open Access Transmission Tariff and Interconnection Service Agreement and Construction Service Agreement with South Point Biomass Generation, LLC and Ohio Power Company.

Filed Date: 09/20/2006.

Accession Number: 20060922-0049.

Comment Date: 5 p.m. Eastern Time on Wednesday, October 11, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-16012 Filed 9-28-06; 8:45 am]

BILLING CODE 6717-01-P